DEPARTMENT OF COMMERCE

National Oceanic and Atmospheric Administration

RIN 0648-XC704

Endangered Species; File No. 17452

AGENCY: National Marine Fisheries Service (NMFS), National Oceanic and Atmospheric Administration (NOAA), Commerce.

ACTION: Notice; receipt of application.

SUMMARY: Notice is hereby given that Caleb Slater, Massachusetts Division of Fish and Wildlife, 1 Rabbit Hill Road, Westborough, MA, 01581, has applied in due form for a permit to take shortnose (Acipenser brevirostrum) and Atlantic sturgeon (Acipenser oxyrinchus oxyrinchus) for purposes of scientific research.

DATES: Written, telefaxed, or email comments must be received on or before July 1, 2013.

ADDRESSES: The application and related documents are available for review by selecting Records Open for Public Comment from the Features box on the Applications and Permits for Protected Species (APPS) home page, https://apps.nmfs.noaa.gov, and then selecting File No. 17452 from the list of available applications.

These documents are also available upon written request or by appointment in the following offices:

Permits and Conservation Division, Office of Protected Resources, NMFS, 1315 East-West Highway, Room 13705, Silver Spring, MD 20910; phone (301) 427-8401; fax (301) 713-0376; and

Northeast Region, NMFS, 55 Great Republic Drive, Gloucester, MA 01930; phone (978) 281-9328; fax (978) 281-9394.

Written comments on this application should be submitted to the Chief, Permits and Conservation Division

• by email to NMFS.Pr1Comments@noaa.gov (include the File No. in the subject line of the email),

• by facsimile to (301) 713-0376, or

• at the address listed above.

Those individuals requesting a public hearing should submit a written request to the Chief, Permits and Conservation Division at the address listed above. The request should set forth the specific reasons why a hearing on this application would be appropriate.

FOR FURTHER INFORMATION CONTACT: Colette Cairns or Malcolm Mohead, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant proposes to conduct a study in the Taunton River, Massachusetts, to assess the current population status of Atlantic and shortnose sturgeon. For each species, up to 20 adult and juvenile animals would be collected annually using gill nets. Once captured, sturgeon would be measured, weighed, tissue sampled, and passive integrated transponder and Floy tagged. The proposed research would provide managers with a more comprehensive understanding of the presence, abundance, and distribution of protected sturgeon in Massachusetts waters and guide management efforts. The permit would be valid for five years from the date of issuance.

Dated: May 28, 2013.
P. Michael Payne,
Chief, Permits and Conservation Division, Office of Protected Resources, National Marine Fisheries Service.

[FR Doc. 2013-12946 Filed 5-30-13; 8:45 am]

BILLING CODE 3510-22-P